DEPARTMENT OF VETERANS AFFAIRS

Privacy Act of 1974; System of Records

AGENCY: Department of Veterans Affairs (VA).

ACTION: Notice of altered Privacy Act system of records.

SUMMARY: As required by the Privacy Act of 1974, 5 U.S.C. 552a(e), notice is hereby given that the Department of Veterans Affairs (VA) is amending the system of records currently entitled, “Readjustment Counseling Service (RCS) Vet Center Program-VA,” (64VA15) as set forth in the Federal Register 74 FR 29019. VA is amending the system by revising the System Number, System Location, Categories of Individuals Covered by the System, Category of Records in the System, Purpose, Storage, Retrievability, Safeguard, Retention and Disposal, System Manager and Address, Notification Procedure, and Record Source Categories. VA is republishing the system notice in its entirety.

DATES: Comments on this new system of records must be received no later than July 7, 2016. If no public comment is received during the period allowed for comment or unless otherwise published in the Federal Register by VA, the new system will become effective July 7, 2016.

ADDRESSES: Written comments concerning the proposed amended system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8:00 a.m. and 4:30 p.m., Monday through Friday (except holidays). Please call (202) 461-4902 (this is not a toll-free number) for an appointment.

FOR FURTHER INFORMATION CONTACT: Veterans Health Administration (VHA) Privacy Officer, Department of Veterans Affairs, 810 Vermont Avenue NW., Washington, DC 20420; telephone (704) 245-2492.

SUPPLEMENTARY INFORMATION: The system number is changed from 65VA15 to 65VA10RCS to reflect the current organizational alignment.

The System Location has been amended to replace sections (a) Counseling Folder and (b) Client Information File with the amended section (a) which will read: Vet Center Client Record: Starting in fiscal year 2010 the location of the Client Record was transitioned from paper files maintained at each individual Vet Center to being electronically maintained in the national computerized intra-net database (RCSNet). The Readjustment Counseling Service Net (RCSNet) servers are located in Philadelphia, PA in a secure, protected, and approved VA Office of Information and Technology (OI&T) Service Delivery and Engineering (SDE) site maintained by OI&T personnel. Full confidentiality for RCS Veteran client information is maintained by limiting access to RCS qualified personnel with the appropriate authority to administer RCS program data systems. Section (b) will state that authorized RCS staff will have access to the Client Record via stand-alone computers located in locked RCS facilities: Vet Centers, District Director Offices, and VA Central Office. Section (c) will be added to state that all paper Client Records established prior to 2010 are being archived and scanned copies have been are uploaded into RCSNet.

Categories of Individuals Covered by the System has been amended to add Servicemembers. Also added is that the Vet Center eligibility will also include any Veteran or Servicemember who provided direct emergency medical or mental health care, or mortuary services, to the casualties of combat operations, but whose service at the time was outside of the combat theater. Additionally, eligibility under this authority includes any Veteran or Servicemember who engaged in combat with an enemy by remotely controlling any aspect of unmanned aerial vehicle operations, regardless of whether the location of such operations was outside the combat theater.

The Category of Records in the System is being amended by deleting both sections (a) Counseling Folder and (b) Client Information File to more accurately represent the nature of the Category of Records in the System as the Client Record. There is only the Client Record therefore this section will now state the following: The Client Record contains demographic personally identifiable information (PII) such as unique Veteran identification number, name, address, social security number, marital status, gender, birth date, military service information, Veteran eligibility information, referral source, and other identifying statistical information. The Vet Center Client Record also contains protected health information (PHI) such as psychosocial assessment, military history, treatment plans, and ongoing case progress notes documenting the course of service delivery.

The Purpose section is being amended to remove the statement that information is collected to conduct a psychological assessment, to include a military history, and provide quality readjustment counseling to assist Veterans resolve war trauma and improve their level of post-war functioning. This section will now state that the purpose of this system of records is to collect and maintain all demographic and clinical information required by Vet Center counselors to provide quality readjustment counseling to eligible Veterans, Services members and their families.

The Storage section is being amended to remove section (a) Counseling Folder: Paper documents stored in file folders, and section (b) Client Information File: Stored on stand-alone personal computer hard drives and any backup media. The Storage section will now state: Vet Center Client Record Storage: (a) Client Records established during and after 2010 are electronically stored in the national computerized RCSNet servers located in Philadelphia, PA, in a secure, protected, and approved VA OI&T Service Delivery and Engineering (SDE) environment maintained by OI&T personnel; (b) Paper Client Records established prior to 2010 are stored in locked facilities at each individual Vet Center providing readjustment counseling throughout the country.

The Retrievability section is being amended to replace sections (a) Counseling Folder: Filed or indexed alphabetically by last name or unique Client Number and, (b) Client Information File: Indexed by Vet Center Number in conjunction with unique Client Number and SSN. This section will now state that the Vet Center Client Record is indexed by the Vet Center number in conjunction with the Veteran's name, social security number (SSN) and unique Veteran client number.

The Safeguard section is being amended to replace Sections (a) Counseling Folder and (b) Client Information File. The new language will state the following: (a) Access to the Vet Center Client Record is limited to authorized RCS staff (Vet Center, District Director Office, and/or the Office of the Chief Readjustment Counseling Officer in VACO) with a legitimate need to know connected to direct service delivery and/or the quality oversight of services provided. RCS staff access to the electronic Vet Center Client Record is via standalone computers located in locked RCS facilities. RCS program computers are user name and password protected. Computer security is in compliance with RCS and VA computer security policy and protocol; (b) RCS staff access to the paper Client Record will be controlled by staff during working hours. During after hours, records will be maintained in locked file cabinets. In higher crime areas, Vet Center offices are equipped with alarm systems; (c) Access to Veterans' and/or Servicemember's counseling records by elements outside of RCS (VA or non-VA) is contingent upon the Veteran or Servicemember's signed authorization, or to one of the routine uses identified above.

The Retention and Disposal section is being amended to remove the counseling folder and to add that all information maintained in the Client Record of obsolete Vet Center paper client records are being archived through VA Records Management and will be retained at one or more of the authorized Department of Veterans Affairs Records Center Vaults for 50 years after the date of last activity.

Section (b) will state the Client Record will be maintained electronically for the duration of the program. This section will also remove the statement that the RCS national data RCS support center stand-alone personal computers contain the computers database. This section will add that destruction of data will be conducted by deleting all sensitive information on all RCS national data support center servers and all stand-alone personal computers connected to the program electronic database located at all RCS Vet Centers, regional management offices, and RCS VACO.

The System Manager and Address and Notification Procedure are being amended to replace Chief Readjustment Counseling Officer (10RCS) with Chief Readjustment Counseling Officer (10RCS).

The Notification Procedure section is being amended to replace Regional Manager with District Director.

The Record Source Categories section is being amended to add item (3) Relevant Veteran data protocols completed by Vet Center staff to document the course of readjustment counseling provided.

The Report of Intent to Amend a System of Records Notice and an advance copy of the system notice have been sent to the appropriate congressional committees and to the Director of the Office of Management and Budget (OMB) as required by 5 U.S.C. 552a(r) (Privacy Act) and guidelines issued by OMB (65 FR 77677), December 12, 2000.

Signing Authority

The Secretary of Veterans Affairs, or designee, approved this document and authorized the undersigned to sign and submit the document to the Office of the Federal Register for publication electronically as an official document of the Department of Veterans Affairs. Robert D. Synder, Chief of Staff, approved this document on May 23, 2016, for publication.

Dated: June 2, 2016.
Kathleen M. Manwell,
Program Analyst, VA Privacy Service, Office of Privacy and Records Management, Department of Veterans Affairs.

64VA10RCS

SYSTEM NAME:

Readjustment Counseling Service (RCS) Vet Center Program-VA.

SYSTEM LOCATION:

(a) Vet Center Client Record: Starting in fiscal year 2010 the location of the Client Record was transitioned from paper files maintained at each individual Vet Center to being electronically maintained in the national computerized intra-net database (RCSNet). The RCSNet servers are located in Philadelphia, PA in a secure, protected, and approved VA OI&T Service Delivery and Engineering (SDE) site maintained by OI&T personnel. Full confidentiality for RCS Veteran client information is maintained by limiting access to RCS qualified personnel with the appropriate authority to administer RCS program data systems.

(b) Authorized RCS staff will have access to the Client Record via stand-alone computers located in locked RCS facilities: Vet Centers, District Director Offices, and VA Central Office.

(c) All paper Client Records established prior to 2010 are being archived and scanned copies have been are uploaded into RCSNet.

AUTHORITY FOR MAINTENANCE OF THE SYSTEM:

Title 38, United States Code, section 1712A.

PURPOSE(S):

The purpose of this system of records is to collect and maintain all demographic and clinical information required by Vet Center counselors to provide quality readjustment counseling to eligible Veterans, services members and their families.

CATEGORIES OF INDIVIDUALS COVERED BY THE SYSTEM:

The individuals covered include eligible Veterans and Servicemembers who request and/or are provided readjustment counseling, including the family members of eligible Veterans and Servicemembers. Eligibility for readjustment counseling at Vet Centers includes any Veteran or Servicemember who served in the military in a theater of combat operations. Vet Center eligibility also includes any Veteran or Servicemember who provided direct emergency medical or mental health care, or mortuary services, to the casualties of combat operations, but whose service at the time was outside of the combat theater. Additionally, eligibility under this authority includes any Veteran or Servicemember who engaged in combat with an enemy by remotely controlling any aspect of unmanned aerial vehicle operations, regardless of whether the location of such operations was outside the combat theater.

CATEGORIES OF RECORDS IN THE SYSTEM:

The Client Record contains demographic personally identifiable information (PII) such as unique Veteran identification number, name, address, social security number, marital status, gender, birth date, military service information, Veteran eligibility information, referral source, and other identifying statistical information. The Vet Center Client Record Client Record also contains protected health information (PHI) such as psychosocial assessment, military history, treatment plans and ongoing case progress notes documenting the course of service delivery.

RECORD SOURCE CATEGORIES:

(1) Relevant forms to be filled out by Vet Center team members on first contact and each contact thereafter; counseling sessions with Veterans and other eligible counselees. (2) Other VA and Federal agency systems. (3) Relevant Veteran data protocols completed by Vet Center staff to document the course of readjustment counseling provided.

ROUTINE USES OF RECORDS MAINTAINED IN THE SYSTEM, INCLUDING CATEGORIES OF USERS AND THE PURPOSES OF SUCH USES:

VA may disclose protected health information pursuant to the following routine uses where required by law, or required or permitted by 45 CFR parts 160 and 164.

1. The record of an individual who is covered by a system of records may be disclosed to a Member of Congress, or a staff person acting for the member, when the member or staff person requests the record on behalf of and at the written request of the individual.

2. Disclosure may be made to the National Archives and Records Administration and the General Services Administration in records management inspections conducted under authority of Title 44, Chapter 29, of the United States Code (U.S.C.).

3. Records from a system of records may be disclosed to the Department of Justice (DOJ), including U.S. Attorneys, or in a proceeding before a court, adjudicative body, or other administrative body when litigation or the adjudicative or administrative process is likely to affect VA, its employees, or any of its components is a party to the litigation or process, or has an interest in the litigation or process, and the use of such records is deemed by VA to be relevant and necessary to the litigation or process, provided that the disclosure is compatible with the purpose for which the records were collected.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of Veterans and their dependents, that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal or regulatory violations of law, or charged with enforcing or implementing the statute, regulation, or order issued pursuant thereto.

6. Disclosure to other Federal agencies may be made to assist such agencies in preventing and detecting possible fraud or abuse by individuals in their operations and programs.

7. Disclosure of information may be made when: (1) It is suspected or confirmed that the integrity or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is to agencies, entities, and persons whom VA determines are reasonably necessary to assist or carry out the Department's efforts to respond to the suspected or confirmed compromise and prevent, minimize, or remedy such harm. This routine use permits disclosure by the Department to respond to a suspected or confirmed data breach, including the conduct of any risk analysis or confirmed data breach, including the conduct of any risk analysis or provision of credit protection services as provided in 38 U.S.C. 5724, as the terms are defined in 38 U.S.C. 5727.

POLICIES AND PRACTICES FOR STORAGE OF RECORDS:

Vet Center Client Record Storage:

(a) Client Records established during and after 2010 are electronically stored in the national computerized RCSNet servers located in Philadelphia, PA, in a secure, protected, and approved VA OI&T Service Delivery and Engineering (SDE) environment maintained by OI&T personnel.

(b) Paper Client Records established prior to 2010 are stored in locked facilities at each individual Vet Center providing readjustment counseling throughout the country.

POLICIES AND PRACTICES FOR RETRIEVABILITY OF RECORDS:

The Vet Center Client Record is indexed by the Vet Center number in conjunction with the Veteran's name, social security number (SSN) and unique Veteran client number.

POLICIES AND PRACTICES FOR RETENTION AND DISPOSAL OF RECORDS:

(a) All obsolete Vet Center paper client records are being archived through VA Records Management and will be retained at one or more of the authorized Department of Veterans Affairs Records Center Vaults for 50 years after the date of last activity. Destruction of paper counseling folders will be by shredding.

(b) The Client Record will be maintained for the duration of the program. Destruction will be by deleting all sensitive information on all RCS national data support center servers and all stand-alone personal computers connected to the program electronic database located at all RCS Vet Centers, regional management offices, and RCS VACO.

PHYSICAL, PROCEDURAL, AND ADMINISTRATIVE SAFEGUARDS:

(a) Access to the Vet Center Client Record is limited to authorized RCS staff (Vet Center, District Director Office, and/or the Office of the Chief Readjustment Counseling Officer in VACO) with a legitimate need to know connected to direct service delivery and/or the quality oversight of services provided. RCS staff access to the electronic Vet Center Client Record is via standalone computers located in locked RCS facilities. RCS program computers are user name and password protected. Computer security is in compliance with RCS and VA computer security policy and protocol.

(b) RCS staff access to the paper Client Record will be controlled by staff during working hours. During after hours, records will be maintained in locked file cabinets. In higher crime areas, Vet Center offices are equipped with alarm systems.

(c) Access to Veterans' or Servicemember's counseling records by elements outside of RCS, VA or non-VA, is contingent upon the Veteran or Servicemember's signed authorization, or to one of the routine uses identified above.

SYSTEM MANAGER(S):

Chief Readjustment Counseling Officer (10RCS), VA Central Office, 810 Vermont Ave. NW., Washington, DC 20420.

RECORD ACCESS PROCEDURE:

An individual (or duly authorized representative of such individual) who seeks access to or wishes to contest records maintained under his or her name or other personal identifier may write, call or visit the individuals listed under Notification Procedure below.

CONTESTING RECORD PROCEDURES:

(See Record Access Procedures above.)

NOTIFICATION PROCEDURE:

A Veteran who wishes to determine whether a record is being maintained by the Readjustment Counseling Service Vet Center Program under his or her name or other personal identifier or wishes to determine the contents of such records should submit a written request or apply in person to: (1) The Team Leader of the Vet Center, or the RCS District Director having supervisory responsibility for the Vet Center, with whom he or she had contact, or (2) the Chief Readjustment Counseling Officer (10RCS), VA Central Office, 810 Vermont Ave. NW., Washington, DC 20420. Inquiries should include the individual's full name and social security number.

EXEMPTIONS PROMULGATED FOR THE SYSTEM:

None.

[FR Doc. 2016-13378 Filed 6-6-16; 8:45 am]

BILLING CODE 8320-01-P